DEPARTMENT OF JUSTICE

Antitrust Division

Notice Pursuant to the National Cooperative Research and Production Act of 1993—Outdoor Power Equipment Institute

Notice is hereby given that, on April 19, 2022, pursuant to Section 6(a) of the National Cooperative Research and Production Act of 1993, 15 U.S.C. 4301 et seq. (“the Act”), the Outdoor Power Equipment Institute (“OPEI”) has filed written notifications simultaneously with the Attorney General and the Federal Trade Commission disclosing additions or changes to its standards development activities. The notifications were filed for the purpose of extending the Act's provisions limiting the recovery of antitrust plaintiffs to actual damages under specified circumstances. Specifically, OPEI has expanded its development activities to include standards for the following products: Log Splitters, Multi-purpose Off-Highway Utility Vehicles, Fuel Systems, Robotic Mowers, Chain Saws, Cutoff Machines, Edgers, Hedge Trimmers, Pole Pruners, Golf Cars, and Personal Transport Vehicles.

On September 16, 2004, OPEI filed its original notification pursuant to Section 6(a) of the Act. The Department of Justice published a notice in the Federal Register pursuant to Section 6(b) of the Act on November 22, 2004 (69 FR 67948).

Suzanne Morris,
Chief, Premerger and Division Statistics, Antitrust Division.

[FR Doc. 2022-10242 Filed 5-12-22; 8:45 am]

BILLING CODE 4410-11-P